DEPARTMENT OF TRANSPORTATION

Federal Aviation Administration

14 CFR Part 39

[Docket No. 99-SW-82-AD; Amendment 39-11781; AD 2000-12-03]

RIN 2120-AA64

Airworthiness Directives; Eurocopter France Model AS332L2 Helicopters

AGENCY: Federal Aviation Administration, DOT.

ACTION: Final rule.

SUMMARY: This amendment adopts a new airworthiness directive (AD) for Eurocopter France Model AS332L2 helicopters. This AD requires inspecting for interference between the transmission flexible mounting plate (plate) and the forward and aft shims (shims), replacing shims and repairing the plate if interference is found, and inspecting the plate for a broken plate slat (slat) and repairing the plate if a broken slat is found or replacing the plate if slat damage beyond repair limits is found. This AD is prompted by the discovery that several helicopters were manufactured with shims that did not have cutouts to permit relative motion between the plate slats and the shims without interference. The actions specified by this AD are intended to prevent cracking of the plate slats, increased helicopter vibration, loss of transmission mounting integrity, and subsequent loss of control of the helicopter.

DATES: Effective July 19, 2000.

The incorporation by reference of certain publications listed in the regulations is approved by the Director of the Federal Register as of July 19, 2000.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Uday Garadi, Aviation Safety Engineer, FAA, Rotorcraft Directorate, Rotorcraft Standards Staff, Fort Worth, Texas 76193-0170, telephone (817) 222-5123, fax (817) 222-5961.

SUPPLEMENTARY INFORMATION: A proposal to amend part 39 of the Federal Aviation Regulations (14 CFR part 39) to include an AD for Eurocopter France Model AS332L2 helicopters was published in the Federal Register on March 24, 2000 (65 FR 15880). That action proposed to require inspecting for interference between the plate, the forward shim, and the aft shim; replacing shims and repairing the plate if interference is found; and inspecting the plate for broken slats and repairing the plate if broken slats are found or replacing the plate if slat damage beyond repair limits is found.

Interested persons have been afforded an opportunity to participate in the making of this amendment. No comments were received on the proposal or the FAA's determination of the cost to the public. The FAA has determined that air safety and the public interest require the adoption of the rule as proposed.

The FAA estimates that 1 helicopter of U.S. registry will be affected by this AD, that it will take approximately 1 work hour to accomplish the inspections; 80 work hours to accomplish the shim replacements and the plate repair, if necessary, and installation of Eurocopter France MOD 0725946 and MOD 0726012. The average labor rate is $60 per work hour. Required parts will cost approximately $4,126 for a forward shim; $4,052 for an aft shim; and $53,022 for a plate. Based on these figures, the total cost impact of the AD on U.S. operators is estimated to be $66,060 to accomplish the inspections and all the replacements and repair, if necessary, and installation of both MOD's.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2000-12-03 Eurocopter France: Amendment 39-11781. Docket No. 99-SW-82-AD.

Applicability: Model AS332L2 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required within 50 hours time-in-service (TIS) or within 50 hours TIS after accumulating 1,000 hours TIS on the transmission flexible mounting plate (plate), whichever occurs last, unless accomplished previously.

To prevent cracking of the plate slats, increased helicopter vibration, loss of transmission mounting integrity, and subsequent loss of control of the helicopter, accomplish the following:

(a) Inspect for interference between the plate, part number (P/N) 332A38-0106-00, the forward shim, P/N 332A22307420, and the aft shim (shim), P/N 332A22307020, in accordance with paragraph 2.B.1 of the Accomplishment Instructions in Eurocopter AS 332 Service Bulletin No. 05.00.54, dated July 8, 1999 (SB). If interference is found, replace the shims and repair the plate in accordance with paragraph 2.B.3 of the Accomplishment Instructions in the SB before further flight.

(b) Visually inspect the plate for a broken slat. If a broken slat is found, replace the plate and the shims with an airworthy plate and shims in accordance with paragraph 2.B.3 of the SB before further flight. Replace the plate with an airworthy plate if slat damage beyond repair limits is found.

(c) Install Eurocopter France MOD 0725946 and Eurocopter France MOD 0726012 at the next major inspection or when the transmission is next removed, whichever occurs first. Installation of both MOD's is considered a terminating action for the requirements of this AD.

(d) An alternative method of compliance or adjustment of the compliance time that provides an acceptable level of safety may be used if approved by the Manager, Regulations Group, Rotorcraft Directorate, FAA. Operators shall submit their requests through a FAA Principal Maintenance Inspector, who may concur or comment and then send it to the Manager, Regulations Group.

Note 2: Information concerning the existence of approved alternative methods of compliance with this AD, if any, may be obtained from the Regulations Group.

(e) Special flight permits may be issued in accordance with sections 21.197 and 21.199 of the Federal Aviation Regulations (14 CFR 21.197 and 21.199) to operate the helicopter to a location where the requirements of this AD can be accomplished.

(f) The inspections and modification shall be done in accordance with paragraph 2.B.1 and 2.B.3 of the Accomplishment Instructions in Eurocopter AS 332 Service Bulletin No. 05.00.54, dated July 8, 1999. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(g) This amendment becomes effective on July 19, 2000.

Note 3: The subject of this AD is addressed in Direction Generale De L'Aviation Civile (France) AD No. 1999-329-015(A), dated August 11, 1999.

Issued in Fort Worth, Texas, on June 5, 2000.
Eric Bries,
Acting Manager, Rotorcraft Directorate, Aircraft Certification Service.

[FR Doc. 00-14790 Filed 6-13-00; 8:45 am]

BILLING CODE 4910-13-P